NUCLEAR REGULATORY COMMISSION

[NRC-2015-0001]

Sunshine Act Meeting

DATE: October 12, 19, 26, November 2, 9, 16, 2015.

PLACE: Commissioners' Conference Room, 11555 Rockville Pike, Rockville, Maryland.

STATUS: Public and Closed.

Week of October 12, 2015

There are no meetings scheduled for the week of October 12, 2015.

Week of October 19, 2015—Tentative

Monday, October 19, 2015

9:30 a.m. Briefing on Security Issues (Closed—Ex. 1)

Wednesday, October 21, 2015

9:00 a.m. Joint Meeting of the Federal Energy Regulatory Commission (FERC) and the Nuclear Regulatory Commission (NRC) (Part 1) (Public Meeting)To be held at FERC Headquarters, 888 First Street NE. Washington, DC. (Contact: Tania Martinez-Navedo: 301-415-6561).

This meeting will be webcast live at the Web address— www.ferc.gov.

11:20 a.m. Joint Meeting of the Federal Energy Regulatory Commission (FERC) and the Nuclear Regulatory Commission (NRC) (Part 2) (Closed—Ex. 1 & 3)To be held at FERC Headquarters, 888 First Street NE., Washington, DC.

Week of October 26, 2015—Tentative

There are no meetings scheduled for the week of October 26, 2015.

Week of November 2, 2015—Tentative

There are no meetings scheduled for the week of November 2, 2015.

Week of November 9, 2015—Tentative

There are no meetings scheduled for the week of November 9, 2015.

Week of November 16, 2015—Tentative

Tuesday, November 17, 2015

9:00 a.m. Briefing on the Status of Lessons Learned from the Fukushima Dia-Ichi Accident (Public Meeting) (Contact: Gregory Bowman: 301-415-2939).

This meeting will be webcast live at the Web address— http://www.nrc.gov/.

Thursday, November 19, 2015

9:00 a.m. Hearing on Combined Licenses for South Texas Project, Units 3 and 4: Section 189a. of the Atomic Energy Act Proceeding (Public Meeting) (Contact: Tom Tai: 301-415-8484).

This meeting will be webcast live at the Web address— http://www.nrc.gov/.

The schedule for Commission meetings is subject to change on short notice. For more information or to verify the status of meetings, contact Glenn Ellmers at 301-415-0442 or via email at Glenn.Ellmers@nrc.gov.

The NRC Commission Meeting Schedule can be found on the Internet at: http://www.nrc.gov/public-involve/public-meetings/schedule.html.

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: October 7, 2015.
Glenn Ellmers,
Policy Coordinator, Office of the Secretary.

[FR Doc. 2015-26041 Filed 10-8-15; 11:15 am]

BILLING CODE 7590-01-P